ENVIRONMENTAL PROTECTION AGENCY

40 CFR Part 300

[EPA-HQ-SFUND-2008-0084; FRL-9981-36—Region 6]

National Oil and Hazardous Substances Pollution Contingency Plan; National Priorities List: Deletion of the Old Esco Manufacturing Superfund Site

AGENCY: Environmental Protection Agency (EPA).

ACTION: Direct final rule.

SUMMARY: The Environmental Protection Agency (EPA) Region 6 is publishing a direct final Notice of Deletion of the Old Esco Manufacturing, Superfund Site (Site), located in Greenville, Texas, from the National Priorities List (NPL). The NPL, promulgated pursuant to section 105 of the Comprehensive Environmental Response, Compensation, and Liability Act (CERCLA) of 1980, as amended, is an appendix of the National Oil and Hazardous Substances Pollution Contingency Plan (NCP). This direct final deletion is being published by EPA with the concurrence of the State of Texas, through the Texas Commission on Environmental Quality (TCEQ), because EPA has determined that all appropriate response actions under CERCLA, have been completed. However, this deletion does not preclude future actions under Superfund.

DATES: This direct final deletion is effective September 10, 2018 unless EPA receives adverse comments by August 27, 2018. If adverse comments are received, EPA will publish a timely withdrawal of the direct final deletion in the Federal Register informing the public that the deletion will not take effect.

ADDRESSES: Submit your comments, identified by Docket ID no. EPA-HQ-SFUND-2008-0084, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

• Email: mueller.brian@epa.gov.

• Mail: Brian W. Mueller; U.S. Environmental Protection Agency, Region 6; Superfund Division (6SF-RL); 1445 Ross Avenue, Suite 1200, Dallas, Texas 75202-2733.

• Hand delivery: U.S. Environmental Protection Agency, Region 6, 1445 Ross Avenue, Suite 700, Dallas, Texas 75202-2733; Contact: Brian W. Mueller (214) 665-7167. Such deliveries are only accepted during the Docket's normal hours of operation, and special arrangements should be made for deliveries of boxed information.

Instructions: Direct your comments to Docket ID No. EPA-HQ-SFUND-2008-0084. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

City of Greenville Municipal Bldg., 2821 Washington Street, Greenville, TX 75401, Telephone Number: (903) 457-3130, Hours of Operation: Monday thru Friday 8:00 a.m. to 5:00 p.m.

U.S. Environmental Protection Agency, Region 6, 1445 Ross Avenue, Suite 1200, Dallas, TX 75202-2733, Telephone number: (800) 533-3508, Contact: Brian W. Mueller: (214) 665-7167, Hours of operation: Monday thru Friday, 9:00 a.m. to 12:00 p.m. and 1:00 p.m. to 4:00 p.m.

Texas Commission on Environmental Quality, Records Management Center, Central File Room, Technical Park Center Bld. E, 1st Floor, Room 1003, 12100 Park 35 Circle, Austin, TX 78753, Telephone Numbers: (512) 239-2900 and (800) 633-9363, Hours of operation: Monday thru Friday, 8:00 a.m. to 5:00 p.m.

FOR FURTHER INFORMATION CONTACT: Brian W. Mueller, Remedial Project Manager, U.S. Environmental Protection Agency, Region 6, 6SF-RL 1445 Ross Avenue, Suite 1200, Dallas, Texas 75202-2733, (214) 665-7167, email mueller.brian@epa.gov.

SUPPLEMENTARY INFORMATION:

Table of Contents

I. Introduction

II. NPL Deletion Criteria

III. Deletion Procedures

IV. Basis for Site Deletion

V. Deletion Action

I. Introduction

EPA Region 6 is publishing this direct final Notice of Deletion of the Old Esco Manufacturing (Site), from the National Priorities List (NPL). The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in § 300.425(e)(3) of the NCP, sites deleted from the NPL remain eligible for Fund-financed remedial actions if future conditions warrant such actions.

Section II of this document explains the criteria for deleting sites from the NPL. Section III discusses procedures that EPA is using for this action. Section IV discusses the Old Esco Manufacturing Superfund Site and demonstrates how it meets the deletion criteria. Section V discusses EPA's action to delete the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

III. Deletion Procedures

The following procedures apply to deletion of the Site:

(1) EPA consulted with the State of Texas prior to developing this direct final Notice of Deletion and the Notice of Intent to Delete co-published today in the “Proposed Rules” section of the Federal Register.

(2) EPA has provided the state 30 working days for review of this notice and the parallel Notice of Intent to Delete prior to their publication today, and the state, through the Texas Commission on Environmental Quality, has concurred on the deletion of the Site from the NPL.

(3) Concurrently with the publication of this direct final Notice of Deletion, a notice of the availability of the parallel Notice of Intent to Delete is being published in a major local newspaper, Greenville Herald Banner. The newspaper notice announces the 30-day public comment period concerning the Notice of Intent to Delete the Site from the NPL.

(4) The EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments and continue with the deletion process on the basis of the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

The Old Esco Manufacturing (“Old Esco” or “site”) Superfund Site (CERCLIS ID TXD980573808) is located at 500 Forrester Street, Greenville, Hunt County, Texas. The geographic coordinates of the Site are Latitude 33.138732° N and Longitude −96.075961° W. The facility, which is currently abandoned, is situated on a 4.7-acre tract of land owned by the City of Greenville.

The boundaries of the Site are surrounded by fencing. The Site is bordered to the north by Forrester Street, to the east by a residential area and vacant lot, to the south by the frontage road of Interstate 30 and a drainage pathway to Horse Creek and the Cowleech Fork of the Sabine River, and to the west by a private lake. The Site consisted of several attached buildings that form one main building (125 by 500 feet), a small shed (15 by 20 feet), and vacant land. A former soil and gravel parking lot is located on the north and west sides of the building.

Esco began operations at the Site in the late 1940s, leasing the property and building, until approximately 1970, when the company relocated to another property in Greenville, Texas. In 1983, Esco purchased the Site and owned it until it defaulted for non-payment of taxes in 2001. Esco manufactured electrical transformers and high voltage switchgear for electrical distribution at the Site. Other manufacturing operations at the Site included metal fabrication, welding, grinding, sandblasting, silver electroplating, and painting. Completed transformers from the facility were either shipped dry (i.e., empty of coolant) or were filled with polychlorinated biphenyl (PCB) dielectric oil, depending on the requirements of the purchaser.

PCBs are mixtures of synthetic organic chemicals that were commonly used for various applications from approximately 1929 until 1979. PCBs were regulated under a series of EPA actions culminating with a ban in 1979 on manufacturing, processing, distribution, and use of PCBs under the Toxic Substances Control Act (TSCA). Items such as transformers and hydraulic fluids were identified as high-risk sources and were targeted for accelerated phase-out.

In July 1980, the Texas Department of Water Resources (TDWR) received a complaint about the historic disposal of transformer oil by Esco on the property. The investigation by TDWR revealed the presence of PCBs at concentrations of 760, 8,400, and 85,000 milligrams per kilogram (mg/kg) in the soils. In April 1981, the TDWR recommended that Esco conduct an extent-of-contamination survey within 180 days and develop a removal plan that would eliminate the PCB-contaminated soil from the Site. In 1990, Esco filed for Chapter 11 Bankruptcy without conducting the cleanup. In 1991, the Chapter 11 bankruptcy was converted to a Chapter 7 bankruptcy. In 2003, the (TCEQ) conducted a Phase I & II Environmental Site Assessment, and installed one new monitoring well and collected 23 surface and subsurface soil samples. Chemical analysis of the surface soil samples indicated the presence of the PCB, Aroclor-1260 in concentrations ranging from 0.338 to 2,390 mg/kg. Chemical analysis of the subsurface soil samples indicated the presence of Aroclor-1260 at a concentration of 12.2 mg/kg. Ground water was encountered at approximately 10 to 15 feet below ground surface (bgs). Chemical analysis of the ground water samples collected from two monitoring wells indicated the presence of Aroclor-1260.

In 2004, the TCEQ formally referred the Site to EPA Region 6 for assistance. From 2005 through 2007, EPA's removal program conducted numerous field sampling and assessment activities at the Site and adjacent properties to determine the extent of contamination and for National Priorities List (NPL) Hazard Ranking System scoring purposes. The Site was proposed to the NPL on March 19, 2008, (73 FR 14742). The Site was added to the NPL as final on September 3, 2008, (73 FR 51368).

History of EPA CERCLA Removal Actions

EPA conducted two Time Critical Removal Actions which began in August 2008 and September 2009, respectively. The purpose of these Removal Actions was to investigate the PCB-contaminated soils in the residential and other adjacent areas of the Site; and to eliminate the imminent threat and substantial endangerment to public health or welfare, or to the environment, posed by site-related contamination associated with the Old Esco Manufacturing Site. Based on removal assessment activities conducted by EPA, the Old Esco Manufacturing Site and surrounding residential properties were found to contain elevated levels of PCBs above the EPA Toxic Substances Control Act (TSCA) screening level of 1 milligram per kilogram (mg/kg).

First Removal Action

The first of these two Removal Actions was completed in January 2009. This Removal Action included:

• Removal of PCB-contaminated soils with a concentration greater than 1.0 mg/kg from six adjacent residential properties and the adjacent Texas Department of Transportation road right-of-way drainage ditches located directly east of the Site.

• Restoration of the six residential properties and roadside ditches.

• Transportation and disposal of 922 tons of soils in the CSC Landfill in Avalon, Texas with concentrations of PCBs equal to or greater than 50.0 mg/kg (TSCA soils) and 4,221 tons of soils in the Maloy Landfill near Campbell, Texas with concentrations of PCBs less than 50.0 mg/kg (Non-TSCA soils).

• On-site consolidation and storage of approximately 4,000 cubic yards (yd³) of TSCA soils in the building.

• Fencing of the perimeter of the Esco property.

• Removal and disposal of 120 yd³ of asbestos-containing materials from the on-site building in the Maloy Landfill.

• Placement of ripple dams/storm water controls in drainage pathways between residential properties and the Site to reduce the potential for contaminated soil backflow onto clean areas during flooding situations.

• Placement of ripple dams at several locations on the Esco drainage system to reduce off-site soil migration.

Second Removal Action

The second Removal Action was completed in December 2009. This Removal Action included:

• Removal of soils with concentrations of PCBs greater than 1.0 mg/kg from three residential properties and portions of the road side drainage ditches along Fannin and Forrester Streets.

• Restoration of the three residential properties and the road side drainage ditches.

• Transportation and disposal of approximately 3,194 tons of soils in the Maloy Landfill with concentrations of PCBs less than 50.0 mg/kg (Non-TSCA soils).

Remedial Investigation and Feasibility Study (RI/FS)

In 2009, EPA's remedial program started and completed the off-site Remedial Investigation (RI) and extent of contamination study by collecting soil samples for PCB analysis from an additional 52 residential properties, and from Texas Department of Transportation highway median and road right-of-way drainage ditches that had not been previously sampled. The RI also included the collection of twelve co-located water and sediment samples from Horse Creek and the Cowleech Fork of the Sabine River, and the collection of ground water samples for PCB analyses.

In 2010, EPA's remedial program completed the full RI/FS. Surface and subsurface soil samples were collected from the on-site areas of the Site to determine the nature and extent of contamination. Sampling results showed that soils as deep as 10.0 feet below ground surface were impacted by PCBs and required remediation. TSCA PCB regulations applied to the Site because surface and subsurface soils were contaminated by PCBs. The concentrations of PCBs required that the contaminated soils be managed as non-TSCA (i.e., concentration less than 50.0 mg/l total PCBs) or TSCA wastes (i.e., concentration equal to or greater than 50.0 mg/kg total PCBs).

Ground water samples were collected from the on-site monitoring wells to determine the nature and extent of contamination in the ground water underlying the Site. The primary ground water contaminants were PCBs and the extent of ground water impact was limited. A total of nine monitoring wells were installed on the Site. Five were installed and sampled prior to the Site being listed on the NPL. In 2003 the wells were sampled and the results indicated that the PCB Aroclor-1260 was present in the ground water in two monitoring wells at concentrations ranging from 9.26 to 0.379 micrograms per liter (µg/L). In 2009 the wells were resampled and the same two wells reported PCB results of 1.1 and 1.5 µg/L, both above the Maximum Contaminant Level (MCL) of 0.5 µg/L.

In 2010, four additional wells were installed by EPA's contractor. Nine ground water samples were collected for PCB analysis in 2010. The ground water chemical analytical data collected indicated that only Aroclor-1260 was detected in four wells ranging from 0.04 to 0.46 µg/L, which were below the MCL of 0.5 µg/L.

Surface water samples were collected from Horse Creek and the Cowleech Fork of the Sabine River to determine the nature and extent of surface water contamination. No Aroclors were detected at the appropriate detection limits and no further action was recommended for surface water.

Sediment data were collected from Horse Creek and the Cowleech Fork of the Sabine River to determine the nature and extent of sediment contamination. Although the maximum sediment concentrations for Aroclor-1268 and Aroclor-1260 were above the screening benchmark for sediments, the screening level ecological risk assessment findings indicated that no further action was required for sediments.

Remedial Action Objectives

The Remedial Action Objectives to be achieved by the Site Remedy were:

• Prevent direct dermal contact, incidental ingestion and inhalation of fugitive dust from PCB-contaminated soils,

• Prevent off-site migration of PCB-contaminated soils to Horse Creek or the Cowleech Fork of the Sabine River,

• Prevent exposure to Site soils that may pose a risk to ecological receptors, and

• Ensure that current and future receptors were not exposed to ground water that could possibly be contaminated with PCBs above the federal MCL of 0.5 µg/L.

Remedial Action Goals

The excavation, on-site treatment, and off-site disposal of the soils with a concentration of total PCBs greater than 1.0 mg/kg would allow the Site to be developed for reuse (i.e., residential and/or recreational and commercial and/or industrial land use). The remediation goal for total PCBs for the Site was 1.0 mg/kg.

Selected Remedy

The selected remedy for the Site, as described in the original 2010 Record of Decision (ROD), was Soil Excavation and Treatment with Off-site Disposal for Residential and/or Recreational Land Use, and included the following major components:

• Soil Excavation, Treatment, and Disposal Components: Approximately 5,200 and 16,250 yd³ of TSCA and non-TSCA soils, respectively, with a concentration of total PCBs greater than 1.0 milligrams per kilogram (mg/kg) were to be excavated and transported off-site to a permitted waste disposal facility. Soils were to be excavated to a maximum depth of 15.0 bgs, consistent with the State's requirements. Soils with a concentration of total PCBs equal to or greater than 50.0 mg/kg were to be disposed of at a TSCA-permitted landfill. Soils with a concentration of total PCBs greater than 1.0 mg/kg and less than 50.0 mg/kg were to be disposed of at a non-TSCA landfill. Approximately 1,850 yd³ of soils with a concentration of total PCBs greater than 100.0 mg/kg, constituting principal threat wastes, were to be treated on-site by solidification or stabilization techniques prior to disposal. Approximately 4,000 yd³ of TSCA soils, with a concentration of total PCBs less than 100.0 mg/kg, staged in the existing building from EPA's first removal action, were also to be transported off-site for disposal. Excavated areas were to be backfilled with clean off-site soils and the Site was to be graded to drain and not pond water. The existing building and its foundation were to be demolished and also transported off-site for disposal.

• Institutional Controls Component—Institutional Controls (ICs), in the form of deed restrictions, were to be implemented to prevent exposure of human receptors to contaminated ground water.

• Ground Water Monitoring Component—Ground water monitoring was to be conducted annually for a minimum period of five years to evaluate the protectiveness of the Selected Remedy. Ground water monitoring was to be discontinued if the concentration of total PCBs in the ground water did not exceed the federal MCL of 0.5 µg/L for three consecutive monitoring periods. The additional data collected during the annual monitoring events was to be used to confirm previous PCB data and further evaluate trends over time. The additional monitoring data was to also allow decisions to be made in the future regarding ground water impacts and evaluation of risks to human health, the need for additional monitoring, whether to continue maintaining ICs, and whether any additional actions would be needed to protect human health and the environment. These decisions were to be made during the first five-year review report for the Site.

• Operations and Maintenance Component—Operations and maintenance was to involve the ground water component of the remedy to ensure that the remedy performed as intended.

• Five-Year Review Component—Because this alternative would result in hazardous substances (i.e., PCBs) remaining on-site in the ground water, possibly above levels that allow for unlimited use and unrestricted exposure, a statutory review was to be conducted no less often than every five years after initiation of the RA to ensure that the remedy was, or will continue to be, protective of human health and the environment. Five-year reviews were to be discontinued if the ground water monitoring data indicate that the concentration of total PCBs did not exceed the federal MCL of 0.5 µg/L for three consecutive monitoring periods.

Third Removal Action

On May 4, 2011, EPA signed a Third Action Memorandum, which documented the continuation of the Time Critical Removal Action and approval of the Consistency Exemption for the Site. The Consistency Exemption documented that the continued response actions were appropriate and consistent with the 2010 ROD selected remedy and remedial actions.

The Third Removal Action was completed with issuance of the final Pollution Report #10 on September 30, 2011. Between May 24 and September 12, 2011, all PCB-contaminated soils were excavated and transported off-site to permitted disposal facilities, and the existing building and foundation was demolished and also transported off-site for disposal. A total of 28,288 tons of Non-TSCA soils, 24,137 tons of TSCA PCB-contaminated soils, 343 tons of construction debris, and 1,455 tons of non-TSCA PCB-contaminated Class II concrete were transported off-site for disposal. The TSCA soils were disposed of at the CSC Landfill and the non-TSCA soils, construction debris, and non-TSCA PCB Class II concrete were disposed of at the Maloy Landfill. Following confirmation that all PCB-contaminated had been removed, excavated areas were backfilled with approximately 60,000 yd ³ of clean off-site soils and the Site was graded so that it would drain and prevent the formation of standing water.

No Further Action Is Necessary Record of Decision Amendment and Explanation of Significant Differences (2011)

The No Further Action is Necessary Record of Decision Amendment and Explanation of Significant Differences (ROD Amendment) was signed on September 28, 2011. The ROD Amendment was prepared to document EPA's implementation and completion of the post-ROD Third Removal Action for the PCB-contaminated soils at the Site. The completion of the soil clean up, which utilized the selected remedy in the original 2010 ROD, eliminated the need to conduct further soil remedial actions at the Site. The Explanation of Significant Differences (ESD) portion of the ROD Amendment presented the details of non-significant or minor changes to the July 2011 Proposed Plan. After the 2011 Proposed Plan was proposed to the public, but before the ROD Amendment was finalized, EPA received the 2011 annual ground water monitoring data, which showed that all concentrations for total PCBs did not exceed the federal MCL of 0.5 µg/L. As a result, EPA determined that changes to the 2011 Proposed Plan were necessary, and the ESD documented those changes. The changes would not have a significant impact on the scope, performance or cost of the remedy.

• The 2011 Proposed Plan stated that ground water monitoring was to be conducted annually for a minimum of five years to evaluate the protectiveness of the proposed remedy. Ground water monitoring was to be discontinued if the concentration of total PCBs in ground water did not exceed the federal MCL of 0.5 ug/l for three consecutive monitoring periods. The ESD added to the Ground Water Monitoring Component that PCB concentrations had already been below the MCL for two (2010 and 2011) consecutive monitoring periods and that if the PCB levels were below the MCL in the third round of ground water sampling scheduled for 2012, ground water monitoring would be discontinued.

• Institutional controls in the form of deed restrictions were to be implemented to prevent exposure of human receptors to contaminated ground water. The ESD stated that these institutional controls would not be implemented at the Site because the 2010 and 2011 monitoring results for PCBs were below the MCL.

• The ESD eliminated the Operations and Maintenance of the ground water component of the remedy after ground water monitoring was to be discontinued.

• Five-Year Reviews would be discontinued if the ground water data indicated that the concentration of total PCBs did not exceed the federal MCL of 0.5 µg/L.

Cleanup Levels

Soils

As stated above, during the Third Removal Action all PCB-contaminated soils were excavated and transported off-site to permitted disposal facilities. The Removal Action was completed by September 2011. After the Removal Action was completed, EPA collected post-construction confirmation soil samples from the bottom of the 52 excavated grids to verify that all PCB-contaminated soils above the total PCB cleanup level of 1.00 mg/kg had been removed. All soil samples were reported below the 1.00 mg/kg cleanup level.

Ground Water

EPA conducted three consecutive annual (2010, 2011, and 2012) ground water sampling events, and all laboratory total PCB results were below the MCL level of 0.5 μg/L. Ground water monitoring has been discontinued and the nine ground water monitoring wells were plugged and properly abandoned in 2012. Although a requirement for Five-Year Reviews was included in the decision documents, Five-Year Reviews were not conducted and are no longer required because the ground water data indicated that the concentration of total PCBs did not exceed the federal MCL of 0.5 μg/L and the Site met unlimited use/unrestricted exposure criteria for the soils and groundwater.

Quality Assurance and Quality Control (QA/QC)

The QA/QC program for the Third Removal Action was conducted in accordance with the Site Removal QA/QC Work Plan prepared by the EPA Superfund Technical Assessment and Response Team (START) contractor and the EPA Emergency and Rapid Response Services (ERRS) contractor. The START contractor was responsible for post-excavation confirmation, soil sample collection, and coordination of sample analyses performed by either the EPA Houston Laboratory or a commercial laboratory selected by the START contractor. All sample results were either validated by the EPA Houston Laboratory or by a START representative.

The cleanup activities met all QA/QC requirements for the Site. The EPA Remedial Project Manager (RPM) conducted daily oversight throughout the Removal Action activities. During the Removal Action the TCEQ Project Manager conducted routine inspections and was in regular contact with the RPM. The TCEQ Project Manager conducted two site visits to verify that construction was complete.

Community Involvement

Public participation activities have satisfied the requirements of CERCLA Section 113(k), 42 U.S.C. 9613(k) and CERCLA Section 117, 42 U.S.C. 9617. Throughout the Site's history, the community has been interested and involved with Site activities. EPA has kept the community and other interested parties updated on Site activities through informational meetings, fact sheets, and public meetings. Documents in the deletion docket which EPA relied on for recommendation for the deletion from the NPL are available to the public in the information repositories, and a notice of availability of the Notice of Intent for Deletion has been published in the Greenville Herald Banner.

Determination That the Site Meets the Criteria for Deletion in the NCP

The implemented remedy achieves the degree of cleanup specified in the ROD and ROD Amendment for all pathways of exposure. All selected remedial action objectives and clean-up goals are consistent with agency policy and guidance. No further Superfund responses are needed to protect human health and the environment at the Site.

In accordance with 40 CFR 300.425(e), sites may be deleted from the NPL where no further response is appropriate.

V. Deletion Action

The EPA, with concurrence of the State of Texas through the Texas Commission on Environment Quality, has determined that all appropriate response actions under CERCLA, have been completed. Therefore, EPA is deleting the Site from the NPL.

Because EPA considers this action to be noncontroversial and routine, EPA is taking it without prior publication. This action will be effective September 10, 2018 unless EPA receives adverse comments by August 27, 2018. If adverse comments are received within the 30-day public comment period, EPA will publish a timely withdrawal of this direct final notice of deletion before the effective date of the deletion, and it will not take effect. EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 19, 2018.
Arturo Blanco,
Acting Regional Administrator, Region 6.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Appendix B to Part 300—[Amended]

2. Table 1 of Appendix B to part 300 is amended in the table by removing the entry for “TX, Old Esco Manufacturing, Greenville”.

[FR Doc. 2018-16119 Filed 7-26-18; 8:45 am]

BILLING CODE 6560-50-P